CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Public Law 104-13, (44 U.S.C. chapter 35). Copies of this ICR, with applicable supporting documentation, may be obtained by calling the Corporation for National and Community Service, Bruce Kellogg, at (202) 606-5000, extension 526. Individuals who use a telecommunications device for the deaf (TTY-TDD) may call (800) 833-3722 between the hours of 9 a.m. and 5 p.m. eastern standard time, Monday through Friday.

ADDRESSES: Comments should be sent to the Office of Information and Regulatory Affairs, Attn: Ms. Brenda Aguilar, OMB Desk Officer for the Corporation for National and Community Service, Office of Management and Budget, Room 10235, Washington, DC 20503, (202) 395-7316, within 30 days from the date of publication in this Federal Register.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

An ICR document has been submitted to OMB for consideration concerning a proposed revision to an earlier OMB-approved form. It is The Voucher and Payment Request Form (OMB #3045-0014).

This is the document by which an AmeriCorps member accesses his or her account in the National Service Trust. The form serves three purposes: (1) The AmeriCorps member uses it to request and authorize a specific payment to be made from his or her account, (2) the school or loan company uses it to indicate the amount for which the individual is eligible, and (3) the school or loan company and member both certify that the payment meets various legislative requirements. When the Corporation receives a voucher, it is processed and the U.S. Treasury issues a payment to the loan holder or school on behalf of the AmeriCorps member.

The document was published in the Federal Register on June 8, 2004, for a 60-day pre-clearance public comment period. A caller commented on unclear wording, which has been modified. Only one organization, a school, requested a copy of the document. Its suggestion was incorporated into the version now being presented to OMB for consideration. The form is discussed below.

Voucher and Payment Request Form

Type of Review: Renewal.

Agency: Corporation for National and Community Service.

Title: Voucher and Payment Request Form.

OMB Number: OMB #3045-0014.

Agency Number: None.

Affected Public: Individuals who have completed a term of national service and who wish to access their educational award accounts.

Total Respondents: 69,000 annually (estimated annual average over the next 3 years).

Frequency: Experience has shown that some members may not ever use the education award and others use it several times a year.

Average Time Per Response: Total of 5 minutes (one half minute for the AmeriCorps member's section and 4½ minutes for the school or lender).

Estimated Total Burden Hours: 5,750 hours.

Total Burden Cost (capital/startup): None.

Total Burden Cost (operating/maintenance): None.

Description

After completing a period of national and community service, the AmeriCorps member receives an education award that can be used to pay against qualified student loans or pay for current post secondary educational expenses. The Voucher and Payment Request Form is the document that a member uses to access his or her account in the National Service Trust.

The form serves three purposes: (1) The AmeriCorps member uses it to request and authorize a specific payment to be made from his or her account, (2) the school or loan company uses it to indicate the amount for which the individual is eligible, and (3) the school or loan company and member both certify that the payment meets various legislative requirements. When the Corporation receives a voucher, it is processed and the U.S. Treasury issues a payment to the loan holder or school on behalf of the AmeriCorps member.

The form was first designed and some variation of it has been in use since the summer of 1994. We are proposing revisions to clarify certain sections of the existing form and to include terminology included in recent legislative changes. The changes impose no additional burden. The legislated change in terminology modifies the definition of loans “made directly to the student. * * *” to loans “made, insured, or guaranteed directly to the student. * * *”

Modifications to Section A clarify instructions to the member on filling out that portion of the Voucher, especially the dollar amount the member requests and authorizes, and includes space to indicate the disbursement period. Similarly, modifications to Section B clarify information provided to loan holders and educational institutions, particularly in regard to stating the dollar amount for educational expenses.

The Corporation seeks to continue using this particular form, albeit in a revised version. The current form is due to expire 09/2004.

Analysis of Comments Received During the Public Comment Period

One comment was received from an educational institution. It suggested the member indicate the disbursement period for the requested payment on the form so that the school would not need to contact the student for that information. Another person commented on the reference to “an eligible program”, which he found unclear. Both comments were incorporated into the revised form.

Dated: August 30, 2004.
Ruben Wiley,
Manager, National Service Trust.

[FR Doc. 04-20386 Filed 9-8-04; 8:45 am]

BILLING CODE 6050-$$-P